DEPARTMENT OF THE INTERIOR

Fish and Wildlife Service

Notice of Intent To Issue 2 Draft Comprehensive Conservation Plans and Associated Environmental Assessments for 2 National Wildlife Refuges in the Southwest Region

AGENCY: Fish and Wildlife Service, Interior.

ACTION: Notice.

SUMMARY: This notice advises the public that the U.S. Fish and Wildlife Service (Service) has prepared draft Comprehensive Conservation Plans (CCP) and associated Environmental Assessments for the Balcones Canyonlands National Wildlife Refuge, Austin, Texas; and the Buenos Aires National Wildlife Refuge, Sasabe, Arizona, pursuant to the National Wildlife Refuge System Improvement Act of 1997, and National Environmental Policy Act of 1969, and its implementing regulations.

DATES: The Service will be open to written comments through March 5, 2001.

ADDRESSES: Copies may be obtained by writing to: Mr. Tom Baca, Natural Resource Planner, Division of Refuges, U.S. Fish and Wildlife Service, P.O. Box 1306, Albuquerque, NM 87103-1306. Comments should be submitted to: Mr. Tom Baca, Natural Resource Planner, Division of Refuges, U.S. Fish and Wildlife Service, P.O. Box 1306, Albuquerque, NM 87103-1306.

SUPPLEMENTARY INFORMATION: It is Service policy to have all lands within the National Wildlife Refuge System managed in accordance with an approved CCP. The CCP guides management decisions and identifies refuge goals, long-range objectives, and strategies for achieving refuge purposes. The planning process has considered many elements, including habitat and wildlife management, habitat protection and acquisition, public and recreational uses, and cultural resources. Public input into this planning process has assisted in the development of the draft documents. The CCP will provide other agencies and the public with a clear understanding of the desired conditions for the Refuges and how the Service will implement management strategies.

The Service intends to consider comments and advice generated in response to the draft documents prior to the preparation of a final CCP. The Service is furnishing this notice in compliance with Service CCP policy: (1) To advise other agencies and the public of the availability of the draft documents, and (2) to obtain suggestions and advice for consideration in preparation of final documents.

The Service anticipates that final CCP documents and any associated NEPA documents will be available by July 31, 2001.

Dated: November 29, 2000.
Thomas C. Bauer,
Acting Regional Director.

[FR Doc. 00-31065 Filed 12-5-00; 8:45 am]

BILLING CODE 4310-55-P